ENVIRONMENTAL PROTECTION AGENCY

40 CFR Parts 1, 9, 150, 164, 178, 179, 700, 712, 716, 720, 723, 725, 761, 763, 766, 795, 796, and 799

[EPA-HQ-OPPT-2010-0629; FRL-8846-7]

Technical Corrections to Organizational Names, Addresses, and OMB Control Numbers

AGENCY: Environmental Protection Agency (EPA).

ACTION: Final rule.

SUMMARY: This document contains minor amendments to regulations under the Federal Insecticide, Fungicide (FIFRA), and Rodenticide Act, the Federal Food, Drug, and Cosmetic Act (FFDCA), and the Toxic Substances Control Act (TSCA). These amendments will make EPA's regulations more accurate and user friendly with regard to the name of the EPA office that administers these statutes and various Agency addresses.

DATES: This rule is effective August 3, 2012.

ADDRESSES: The docket for this action, identified by docket identification (ID) number EPA-HQ-OPPT-2010-0629, is available at http://www.regulations.gov or at the Office of Pollution Prevention and Toxics Docket (OPPT Docket), Environmental Protection Agency Docket Center (EPA/DC), EPA West Bldg., Rm. 3334, 1301 Constitution Ave. NW., Washington, DC. The Public Reading Room is open from 8:30 a.m. to 4:30 p.m., Monday through Friday, excluding legal holidays. The telephone number for the Public Reading Room is (202) 566-1744, and the telephone number for the OPPT Docket is (202) 566-0280. Please review the visitor instructions and additional information about the docket available at http://www.epa.gov/dockets.

FOR FURTHER INFORMATION CONTACT: Jonah H. Richmond, Regulatory Coordination Staff (7101M), Office of Chemical Safety and Pollution Prevention, Environmental Protection Agency, 1200 Pennsylvania Ave. NW., Washington, DC 20460-0001; telephone number: (202) 564-0210; email address: richmond.jonah@epa.gov.

SUPPLEMENTARY INFORMATION:

I. Does this action apply to me?

This action is directed to the public in general. Since this action may apply to anyone, the Agency has not attempted to describe all the specific entities that may be affected by this action. If you have any questions regarding the applicability of this action to a particular entity, consult the person listed under FOR FURTHER INFORMATION CONTACT.

II. Why are these amendments issued as a final rule?

Section 553 of the Administrative Procedure Act (APA) (5 U.S.C. 533(b)(3)(B)) provides that, when an agency for good cause finds that notice and public procedure are impracticable, unnecessary, or contrary to the public interest, the agency may issue a rule without providing notice and an opportunity for public comment. EPA has determined that there is good cause for making this rule final without prior proposal and opportunity for comment. These changes update the organizational name of the EPA office responsible for administration of FIFRA, FFDCA section 408, and TSCA, and correct various Agency addresses. Notice and public comment on such changes is unnecessary. EPA finds that this constitutes good cause under 5 U.S.C. 533(b)(3)(B).

III. Statutory and Executive Order Reviews

This final rule implements technical corrections and does not otherwise impose or change any requirements. As such, this action does not require review by OMB under Executive Order 12866, entitled “Regulatory Planning and Review” (58 FR 51735, October 4, 1993), the Paperwork Reduction Act (44 U.S.C. 3501 et seq.), or Executive Order 13045, entitled “Protection of Children from Environmental Health Risks and Safety Risks” (62 FR 19885, April 23, 1997). Nor does it impose any enforceable duty, contain any unfunded mandate, or impose any significant or unique impact on small governments as described in the Unfunded Mandates Reform Act (UMRA) (2 U.S.C. 1501 et seq.).

This action will not have substantial direct effects on State or Tribal governments, on the relationship between the Federal Government and States or Indian tribes, or on the distribution of power and responsibilities between the Federal Government and States or Indian tribes. As such, it will not have any “federalism implications” as described by Executive Order 13132, entitled “Federalism” (64 FR 43255, August 10,1999) or “tribal implications” as described by Executive Order 13175, entitled “Consultation and Coordination with Indian Tribal Governments” (65 FR 67249, November 9, 2000). Nor does it involve any technical standards that would require Agency consideration of voluntary consensus standards pursuant to section 12(d) of the National Technology Transfer and Advancement Act (NTTAA) (15 U.S.C. 272 note), environmental justice-related issues that would require consideration under Executive Order 12898, entitled “Federal Actions to Address Environmental Justice in Minority Populations and Low-Income Populations” (59 FR 7629, February 16, 1994), or otherwise involve anything that would have any adverse effect on the supply, distribution, or use of energy that would require consideration under Executive Order 13211, entitled “Actions Concerning Regulations that Significantly Affect Energy Supply, Distribution, or Use” (66 FR 28355, May 22, 2001).

In addition, since this action is not subject to notice-and-comment requirements under the APA or any other statute, it is not subject to the regulatory flexibility provisions of the Regulatory Flexibility Act (RFA) (5 U.S.C. 601 et seq.).

IV. Congressional Review Act

Pursuant to the Congressional Review Act (5 U.S.C. 801 et seq.), EPA will submit a report containing this rule and other required information to the U.S. Senate, the U.S. House of Representatives, and the Comptroller General of the United States prior to publication of the rule in the Federal Register. This action is not a “major rule” as defined by 5 U.S.C. 804(2).

List of Subjects in 40 CFR Parts 1, 9, 150, 164, 178, 179, 700, 712, 716, 720, 723, 725, 761, 763, 766, 795, 796, and 799

Environmental protection, Administrative practice and procedure.

Dated: July 20, 2012.
James Jones,
Assistant Administrator, Office of Chemical Safety and Pollution Prevention.

Therefore, 40 CFR chapter I is amended as follows:

PART 1—[AMENDED]

1. The authority citation for part 1 continues to read as follows:

Authority: 5 U.S.C. 552.

2. Revise § 1.43 to read as follows:

§ 1.43 Office of Chemical Safety and Pollution Prevention.

The Assistant Administrator, Office of Chemical Safety and Pollution Prevention (OCSPP), serves as the principal adviser to the Administrator in matters pertaining to assessment and regulation of pesticides and toxic substances and is responsible for managing the Agency's pesticides and toxic substances programs under the Federal Insecticide, Fungicide, and Rodenticide Act (FIFRA); the Federal Food, Drug, and Cosmetic Act (FFDCA); the Toxic Substances Control Act (TSCA); the Pollution Prevention Act (PPA); and portions of several other statutes. The Assistant Administrator has responsibility for establishing Agency strategies for implementation and integration of the pesticides and the toxic substances programs under applicable Federal statutes; developing and operating Agency programs and policies for assessment and control of pesticides and toxic substances; developing recommendations for Agency priorities for research, monitoring, regulatory, and information-gathering activities relating to pesticides and toxic substances; developing scientific, technical, economic, and social databases for the conduct of hazard assessments and evaluations in support of toxic substances and pesticides activities; providing toxic substances and pesticides program guidance to EPA Regional Offices and monitoring, evaluating, and assessing pesticides and toxic substances program operations in EPA Headquarters and Regional Offices.

(a) Office of Pesticide Programs. The Office of Pesticide Programs (OPP), under the management of a Director and Deputy Director are responsible to the Assistant Administrator for leadership of the overall pesticide activities of the Agency under the authority of FIFRA, FFDCA, and portions of several other statutes. Responsibilities include the development of strategic plans for the control of the national environmental pesticide situation. Such plans are implemented by OPP, other EPA components, other Federal agencies, or by State, local, and private sectors. OPP is also responsible for establishment of tolerance levels for pesticide residues which occur in or on food; registration and reregistration of pesticides; special review of pesticides suspected of posing unreasonable risks to human health or the environment; monitoring of pesticide residue levels in food, humans, and non-target fish and wildlife; preparation of pesticide registration guidelines; development of standards for the registration and reregistration of pesticide products; provision of program policy direction to technical and manpower training activities in the pesticides area; development of research needs and monitoring requirements for the pesticide program and related areas; review of impact statements dealing with pesticides; providing operational guidance to EPA Regional Offices; and carrying out of assigned international activities.

(b) Office of Pollution Prevention and Toxics. The Office of Pollution Prevention and Toxics (OPPT), under the management of a Director and Deputy Director is responsible to the Assistant Administrator for those activities of the Agency mandated by TSCA, PPA, and portions of several other statutes. The Director is responsible for developing and operating Agency programs and policies for new and existing chemicals. In each of these areas, the Director is responsible for information collection and coordination; data development; health, environmental, and economic assessment; and negotiated or regulatory control actions. The Director provides operational guidance to EPA Regional Offices, reviews and evaluates toxic substances activities at EPA Headquarters and Regional Offices; coordinates TSCA activities with other EPA offices and Federal and State agencies, and conducts the export notification required by TSCA and provides information to importers. The Director is responsible for developing policies and procedures for the coordination and integration of Agency and Federal activities concerning toxic substances. The Director is also responsible for coordinating communication with the industrial community, environmental groups, and other interested parties on matters relating to the implementation of TSCA; providing technical support to international activities managed by the Office of International Activities; and managing the joint planning of toxic research and development under the auspices of the Pesticides/Toxic Substances Research Committee.

(c) Office of Science Coordination and Policy. The Office of Science Coordination and Policy (OSCP) provides coordination, leadership, peer review, and synthesis of science and science policy within OCSPP. OSCP provides guidance to assure sound scientific decisions are made regarding safe pesticide and chemical management through the leadership of the Scientific Advisory Panel (SAP). OSCP also coordinates emerging exposure and hazard assessment topics such as endocrine disruptors and biotechnology.

PART 9—[AMENDED]

3. The authority citation for part 9 continues to read as follows:

Authority: 7 U.S.C. 135 et seq., 136-136y; 15 U.S.C. 2001, 2003, 2005, 2006, 2601-2671, 21 U.S.C. 331j, 346a, 348; 31 U.S.C. 9701; 33 U.S.C. 1251 et seq., 1311, 1313d, 1314, 1318, 1321, 1326, 1330, 1342, 1344, 1345 (d) and (e), 1361; E.O. 11735, 38 FR 21243, 3 CFR, 1971-1975 Comp. p. 973; 42 U.S.C. 241, 242b, 243, 246, 300f, 300g, 300g-1, 300g-2, 300g-3, 300g-4, 300g-5, 300g-6, 300j-1, 300j-2, 300j-3, 300j-4, 300j-9, 1857 et seq., 6901-6992k, 7401-7671q, 7542, 9601-9657, 11023, 11048.

4. In § 9.1, the table is amended by revising the entries, “162.153” and “Part 166” under the undesignated center headings indicated.

These revisions read as follows:

§ 9.1 OMB approvals under the Paperwork Reduction Act.

* * * * *

40 CFR citation | OMB control No.
* * * * *
State Registration of Pesticide Products
162.153 | 2070-0182
* * * * *
Exemption of Federal and State Agencies for Use of Pesticides Under Emergency Conditions
Part 166 | 2070-0182
* * * * *

* * * * *

PART 150—[AMENDED]

5. The authority citation for part 150 continues to read as follows:

Authority: Reorganization Plan No. 3 of 1970 (5 U.S.C. App.).

6. Revise § 150.17 to read as follows:

§ 150.17 Addresses for the Office of Pesticide Programs.

The official addresses, unless otherwise noted, are as follows:

(a) Applications, correspondence, and non-docket materials—(1) United States Postal Service mailing address. Office of Pesticide Programs (7510P), Environmental Protection Agency, 1200 Pennsylvania Ave. NW., Washington, DC 20460-0001.

(2) Hand/courier delivery address. Office of Pesticide Programs, Environmental Protection Agency, 2777 S. Crystal Dr., Arlington, VA 22202-4501. This is not a mailing address. You must make arrangements with the person receiving your delivery.

(b) Office of Pesticide Programs Regulatory Public Docket (OPP Docket)—(1) Electronic docket address. Publicly available docket materials are available in the electronic docket at http://www.regulations.gov. Although listed in the docket index at regulations.gov, some information is not publicly available, e.g., Confidential Business Information (CBI) or other information whose disclosure is restricted by statute. Certain other material, such as copyrighted material, will be publicly available only at the OPP Docket.

(2) Physical location. Environmental Protection Agency Docket Center (EPA/DC), Environmental Protection Agency, EPA West Bldg., Rm. 3334, 1301 Constitution Ave. NW., Washington, DC 20460-0001. This is not a mailing address. For instructions on visiting the docket, go to http://www.epa.gov/dockets/contacts.htm.

(3) United States Postal Service mailing address. Office of Pesticide Programs Regulatory Public Docket, Environmental Protection Agency Docket Center (EPA/DC), (28221T), Environmental Protection Agency, 1200 Pennsylvania Ave. NW., Washington, DC 20460-0001.

(4) Hand/courier delivery. For hand/courier delivery or to make special arrangements for deliveries of boxed information, please follow the instructions at http://www.epa.gov/dockets/contacts.htm.

PART 164—[AMENDED]

7. The authority citation for part 164 continues to read as follows:

Authority: 7 U.S.C. 136d.

8. In § 164.2, revise in paragraph (l)(2) the last sentence and paragraph (s) to read as follows:

§ 164.2 Definitions.

* * * * *

(l) * * *

(2) * * * Such judicial officer shall not be employed by the Office of Chemical Safety and Pollution Prevention or have any connection with the preparation or presentation of evidence for a hearing.

* * * * *

(s) The term Respondent means the Assistant Administrator of the Office of Chemical Safety and Pollution Prevention.

* * * * *

PART 178—[AMENDED]

9. The authority citation for part 178 continues to read as follows:

Authority: 21 U.S.C. 346a, 371(a); Reorg. Plan No. 3 of 1970.

10. In § 178.3, revise the term “Assistant Administrator” to read as follows:

§ 178.3 Definitions.

* * * * *

Assistant Administrator means the Agency's Assistant Administrator for Chemical Safety and Pollution Prevention, or any officer or employee of the Agency's Office of Chemical Safety and Pollution Prevention to whom the Assistant Administrator delegates the authority to perform functions under this part.

* * * * *

PART 179—[AMENDED]

11. The authority citation for part 179 continues to read as follows:

Authority: 21 U.S.C. 346a, 371(a); Reorg. Plan No. 3 of 1970.

12. In § 179.3, remove the definition of “OPPTS,” revise the definition of “Assistant Administrator,” and add in alphabetical order the definition of “OCSPP” to read as follows:

§ 179.3 Definitions.

* * * * *

Assistant Administrator means the Agency's Assistant Administrator for Chemical Safety and Pollution Prevention, or any officer or employee of the Agency's Office of Chemical Safety and Pollution Prevention to whom the Assistant Administrator has delegated the authority to perform functions under this part.

* * * * *

OCSPP means the Agency's Office of Chemical Safety and Pollution Prevention.

* * * * *

§§ 179.24, 179.42, 179.83, and 179.117 [Amended]

13. In §§ 179.24(b)(1) through (3), 179.42(a), 179.83(a)(2) through (4) and (b) introductory text, and 179.117(a), remove the acronym “OPPTS” and add in its place the acronym “OCSPP” everywhere it appears.

PART 700—[AMENDED]

14. The authority citation for part 700 continues to read as follows:

Authority: 15 U.S.C. 2625 and 2665, 44 U.S.C. 3504.

15. Add new subpart A, consisting of § 700.17, to read as follows:

Subpart A—Addresses

§ 700.17 Addresses for the Office of Pollution Prevention and Toxics.

The official addresses, unless otherwise noted, are as follows:

(a) Correspondence and non-docket materials—(1) United States Postal Service mailing address. Office of Pollution Prevention and Toxics (7401M), Environmental Protection Agency, 1200 Pennsylvania Ave. NW., Washington, DC 20460-0001.

(2) Hand/courier delivery address. Office of Pollution Prevention and Toxics, Environmental Protection Agency, EPA East Bldg., 1201 Constitution Ave. NW., Washington, DC 20004. This is not a mailing address. You must make arrangements with the person receiving your delivery.

(b) Office of Pollution Prevention and Toxics Docket (OPPT Docket)—(1) Electronic docket address. Publicly available docket materials are available in the electronic docket at http://www.regulations.gov. Although listed in the docket index at regulations.gov, some information is not publicly available, e.g., Confidential Business Information (CBI) or other information whose disclosure is restricted by statute. Certain other material, such as copyrighted material, will be publicly available only at the OPPT Docket.

(2) Physical location. Environmental Protection Agency Docket Center (EPA/DC), Environmental Protection Agency, EPA West Bldg., Rm. 3334, 1301 Constitution Ave. NW., Washington, DC 20460-0001. The telephone number for the OPPT Docket is (202) 566-0280. This is not a mailing address. For instructions on visiting the docket, go to http://www.epa.gov/dockets/contacts.htm.

(3) United States Postal Service mailing address. Document Control Office (7407M), Office of Pollution Prevention and Toxics, Environmental Protection Agency, 1200 Pennsylvania Ave. NW., Washington, DC 20460-0001.

(4) Hand/courier delivery address. Document Control Office, Office of Pollution Prevention and Toxics, Environmental Protection Agency, EPA East Bldg., Rm. 6428, 1201 Constitution Ave. NW., Washington, DC. Deliveries are only accepted between 8:30 a.m. and 4 p.m., and special arrangements should be made for deliveries of boxed information. The telephone number for the Document Control Office is (202) 564-8930.

PART 712—[AMENDED]

16. The authority citation for part 712 continues to read as follows:

Authority: 15 U.S.C. 2607(a).

§ 712.30 [Amended]

17. In § 712.30(c)(1), remove the phrase “Prevention, Pesticides and Toxic Substances” and add in its place “Chemical Safety and Pollution Prevention.”

PART 716—[AMENDED]

18. The authority citation for part 716 continues to read as follows:

Authority: 15 U.S.C. 2607(d).

§ 716.105 [Amended]

19. In § 716.105(c), remove the phrase “Prevention, Pesticides and Toxic Substances” and add in its place “Chemical Safety and Pollution Prevention.”

PART 720—[AMENDED]

20. The authority citation for part 720 continues to read as follows:

Authority: 15 U.S.C. 2604, 2607, and 2613.

21. In § 720.95, revise the last sentence of the section to read as follows:

§ 720.95 Public file.

* * * Publically available docket materials are available at the addresses in § 700.17(b)(1) and (2) of this chapter.

PART 723—[AMENDED]

22. The authority citation for part 723 continues to read as follows:

Authority: 15 U.S.C. 2604.

§ 723.50 [Amended]

23. In § 723.50(h)(2)(i)(A), remove the phrase “the Office of Prevention, Pesticides, and Toxic Substances” and add in its place “Chemical Safety and Pollution Prevention.”

PART 725—[AMENDED]

24. The authority citation for part 725 continues to read as follows:

Authority: 15 U.S.C. 2604, 2607, 2613, and 2625.

§ 725.67 [Amended]

25. In § 725.67(b)(1), remove the phrase “Prevention, Pesticides and Toxic Substances” and add in its place “Chemical Safety and Pollution Prevention.”

26. In § 725.95, revise the last sentence of the section to read as follows:

§ 725.95 Public file.

* * * Publically available docket materials are available at the addresses in § 700.17(b)(1) and (2) of this chapter.

PART 761—[AMENDED]

27. The authority citation for part 761 continues to read as follows:

Authority: 15 U.S.C. 2605, 2607, 2611, 2614, and 2616.

§ 761.30 [Amended]

28. In § 761.30(i)(1)(iii)(A)(1), remove the phrase “Office of Prevention, Pesticides, and Toxic Substances” and add in its place “Office of Pollution Prevention and Toxics.”

PART 763—[AMENDED]

29. The authority citation for part 763 continues to read as follows:

Authority: 15 U.S.C. 2605, 2607(c), 2643, and 2646.

30. In § 763.90, revise the third sentence in paragraph (i)(5) to read as follows:

§ 763.90 Response actions.

* * * * *

(i) * * *

(5) * * * The method is available at the addresses in § 700.17(b)(1) and (2) of this chapter. * * *

* * * * *

PART 766—[AMENDED]

31. The authority citation for part 766 continues to read as follows:

Authority: 15 U.S.C. 2603 and 2607.

32. In § 766.12, revise the last sentence of the section to read as follows:

§ 766.12 Testing guidelines.

* * * Publicly available docket materials are available at the addresses in § 700.17(b)(1) and (2) of this chapter.

PART 795—[AMENDED]

33. The authority citation for part 795 continues to read as follows:

Authority: 15 U.S.C. 2603.

34. In § 795.232, revise the eleventh sentence of paragraph (c)(2)(i) to read as follows:

§ 795.232 Inhalation and dermal pharmacokinetics of commercial hexane.

* * * * *

(c) * * *

(2) * * *

(i) * * * Copies are available at the addresses in § 700.17(b)(1) and (2) of this chapter. * * *

* * * * *

PART 796—[AMENDED]

35. The authority citation for part 796 continues to read as follows:

Authority: 15 U.S.C. 2603.

§§ 796.1950 and 796.3500 [Amended]

36. In §§ 796.1950(b)(2)(i) and 796.3500(b)(1)(ii), remove the phrase “Non-Confidential Information Center (NCIC) (7407), Office of Pollution Prevention and Toxics, U.S. Environmental Protection Agency, Room B-607 NEM, 401 M St. SW., Washington, DC 20460, between the hours of 12 p.m. and 4 p.m. weekdays excluding legal holidays” and add in its place “Director, Environmental Assistance Division (7408), Office of Pollution Prevention and Toxics, Environmental Protection Agency, Room E-543B, 1200 Pennsylvania Ave. NW., Washington, DC 20460-0001.”

PART 799—[AMENDED]

37. The authority citation for part 799 continues to read as follows:

Authority: 15 U.S.C. 2603, 2611, 2625.

§§ 799.2155 and 799.4360 [Amended]

38. In §§ 799.2155(a)(1) and 799.4360(d)(7)(i)(B), remove the phrase “Non-Confidential Information Center (NCIC) (7407), Office of Pollution Prevention and Toxics, U.S. Environmental Protection Agency, Room B-607 NEM, 401 M St. SW., Washington, DC 20460, between the hours of 12 p.m. and 4 p.m. weekdays excluding legal holidays” and add in its place “Director, Environmental Assistance Division (7408), Office of Pollution Prevention and Toxics, Environmental Protection Agency, Rm. E-543B, 1200 Pennsylvania Ave. NW., Washington, DC 20460-0001.”

39. In § 799.6755, revise the last sentence of paragraph (f) introductory text to read as follows:

§ 799.6755 TSCA partition coefficient (n-octanol/water), shake flask method.

* * * * *

(f) * * * These references are available at the addresses in § 700.17(b)(1) and (2) of this chapter.

* * * * *

40. In § 799.6756, revise the last sentence of paragraph (e) introductory text to read as follows:

§ 799.6756 TSCA partition coefficient (n-octanol/water), generator column method.

* * * * *

(e) * * * These references are available at the addresses in § 700.17(b)(1) and (2) of this chapter.

* * * * *

41. In § 799.6784, revise the last sentence of paragraph (f) introductory text to read as follows:

§ 799.6784 TSCA water solubility: Column elution method; shake flask method.

* * * * *

(f) * * * These references are available at the addresses in § 700.17(b)(1) and (2) of this chapter.

* * * * *

42. In § 799.6786:

i. Remove the acronym “OPPTS” and add in its place the acronym “OCSPP” in paragraph (b)(3)(ii).

ii. Revise the last sentence of paragraph (e) introductory text to read as follows:

§ 799.6786 TSCA water solubility: Generator column method.

* * * * *

(e) * * * These references are available at the addresses in § 700.17(b)(1) and (2) of this chapter.

* * * * *

43. In § 799.9110, revise the last sentence of paragraph (f) introductory text to read as follows:

§ 799.9110 TSCA acute oral toxicity.

* * * * *

(f) * * * These references are available at the addresses in § 700.17(b)(1) and (2) of this chapter.

* * * * *

44. In § 799.9120, revise the last sentence of paragraph (f) introductory text to read as follows:

§ 799.9120 TSCA acute dermal toxicity.

* * * * *

(f) * * * These references are available at the addresses in § 700.17(b)(1) and (2) of this chapter.

* * * * *

45. In § 799.9130, revise the last sentence of paragraph (g) introductory text to read as follows:

§ 799.9130 TSCA acute inhalation toxicity.

* * * * *

(g) * * * These references are available at the addresses in § 700.17(b)(1) and (2) of this chapter.

* * * * *

46. In § 799.9305, revise the last sentence of paragraph (h) introductory text to read as follows:

§ 799.9305 TSCA Repeated dose 28-day oral toxicity study in rodents.

* * * * *

(h) * * * These references are available at the addresses in § 700.17(b)(1) and (2) of this chapter.

* * * * *

47. In § 799.9310, revise the last sentence of paragraph (h) introductory text to read as follows:

§ 799.9310 TSCA 90-day oral toxicity in rodents.

* * * * *

(h) * * * These references are available at the addresses in § 700.17(b)(1) and (2) of this chapter.

* * * * *

48. In § 799.9325, revise the last sentence of paragraph (h) introductory text to read as follows:

§ 799.9325 TSCA 90-day dermal toxicity.

* * * * *

(h) * * * These references are available at the addresses in § 700.17(b)(1) and (2) of this chapter.

* * * * *

49. In § 799.9346, revise the last sentence of paragraph (h) introductory text to read as follows:

§ 799.9346 TSCA 90-day inhalation toxicity.

* * * * *

(h) * * * These references are available at the addresses in § 700.17(b)(1) and (2) of this chapter.

* * * * *

50. In § 799.9355, revise the last sentence of paragraph (h) introductory text to read as follows:

§ 799.9355 TSCA reproduction/developmental toxicity screening test.

* * * * *

(h) * * * These references are available at the addresses in § 700.17(b)(1) and (2) of this chapter.

* * * * *

51. In § 799.9365, revise the last sentence of paragraph (h) introductory text to read as follows:

§ 799.9365 TSCA combined repeated dose toxicity study with the reproduction/developmental toxicity screening test.

* * * * *

(h) * * * These references are available at the addresses in § 700.17(b)(1) and (2) of this chapter.

* * * * *

52. In § 799.9370, revise the last sentence of paragraph (h) introductory text to read as follows:

§ 799.9370 TSCA prenatal developmental toxicity.

* * * * *

(h) * * * These references are available at the addresses in § 700.17(b)(1) and (2) of this chapter.

* * * * *

53. In § 799.9380, revise the last sentence of paragraph (g) introductory text to read as follows:

§ 799.9380 TSCA reproduction and fertility effects.

* * * * *

(g) * * * These references are available at the addresses in § 700.17(b)(1) and (2).

* * * * *

54. In § 799.9410, revise the last sentence of paragraph (h) introductory text to read as follows:

§ 799.9410 TSCA chronic toxicity.

* * * * *

(h) * * * These references are available at the addresses in § 700.17(b)(1) and (2) of this chapter.

* * * * *

55. In § 799.9420, revise the last sentence of paragraph (g) introductory text to read as follows:

§ 799.9420 TSCA carcinogenicity.

* * * * *

(g) * * * These references are available at the addresses in § 700.17(b)(1) and (2) of this chapter.

* * * * *

56. In § 799.9430, revise the last sentence of paragraph (h) introductory text to read as follows:

§ 799.9430 TSCA combined chronic toxicity/carcinogenicity.

* * * * *

(h) * * * These references are available at the addresses in § 700.17(b)(1) and (2) of this chapter.

* * * * *

57. In § 799.9537, revise the last sentence of paragraph (i) introductory text to read as follows:

§ 799.9537 TSCA in vitro mammalian chromosome aberration test.

* * * * *

(i) * * * These references are available at the addresses in § 700.17(b)(1) and (2) of this chapter.

* * * * *

58. In § 799.9620, revise the last sentence of paragraph (g) introductory text to read as follows:

§ 799.9620 TSCA neurotoxicity screening battery.

* * * * *

(g) * * * These references are available at the addresses in § 700.17(b)(1) and (2) of this chapter.

* * * * *

59. In § 799.9630, revise the last sentence of paragraph (f) introductory text to read as follows:

§ 799.9630 TSCA developmental neurotoxicity.

* * * * *

(f) * * * These references are available at the addresses in § 700.17(b)(1) and (2) of this chapter.

* * * * *

60. In § 799.9780, revise the last sentence of paragraph (j) introductory text to read as follows:

§ 799.9780 TSCA immunotoxicity.

* * * * *

(j) * * * These references are available at the addresses in § 700.17(b)(1) and (2) of this chapter.

* * * * *

§§ 799.9135, 799.9510, 799.9530, 799.9538, and 799.9539 [Amended]

61. In §§ 799.9135(h) introductory text, 799.9510(g) introductory text, 799.9530(g) introductory text, 799.9538(g) introductory text, and 799.9539(g) introductory text, remove the phrase “for inspection at the TSCA Nonconfidential Information Center, Rm. NE-B607, Environmental Protection Agency, 401 M St. SW., Washington, DC, 12 noon to 4 p.m., Monday through Friday, except legal holidays.” and add in its place “at the addresses in § 700.17(b)(1) and (2) of this chapter.”

[FR Doc. 2012-18793 Filed 8-2-12; 8:45 am]

BILLING CODE 6560-50-P